DEPARTMENT OF TRANSPORTATION

Coast Guard

[USCG-2000-8079]

Setting the Environmental Agenda of the Coast Guard for Oil Pollution—Prevention, Preparedness, and Response—in the 21st Century

AGENCY: Coast Guard, DOT.

ACTION: Notice of availability and request for public comments.

SUMMARY: The Coast Guard announces the availability of the Risk Assessment it conducted to help set its environmental agenda for oil spill prevention, preparedness and response in the 21st century. We request your comments on the Assessment.

DATES: Comments and related material must reach the Docket Management Facility on or before February 3, 2003.

ADDRESSES: To make sure that your comments and related material are not entered more than once in the docket, please submit them by only one of the following means:

(1) By mail to the Docket Management Facility, (USCG-2000-8079), U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web site for the Docket Management System at http://dms.dot.gov.

The Docket Management Facility maintains the public docket for this notice. Comments and material received from the public, as well as the draft Programmatic Environmental Assessment (PEA), will become part of this docket and will be available for inspection or copying at room PL-401 on the Plaza level of the Nassif Building, 400 Seventh Street SW., Washington, DC, between 9 a.m. and 5 p.m., Monday through Friday, except Federal holidays. You may also find this docket, including the PEA, on the Internet at http://dms.dot.gov.

FOR FURTHER INFORMATION CONTACT: If you have questions on this notice, or the associated risk assessment, call Commander David Lersch, U.S. Coast Guard, telephone (202) 267-0421. If you have questions on viewing or submitting material to the docket, call Dorothy Beard, Chief, Dockets, Department of Transportation, telephone 202-366-5149.

SUPPLEMENTARY INFORMATION:

Request for Comments

We encourage you to submit comments and related material on the Risk Assessment. If you do so, please include your name and address, identify the docket number for this notice (USCG-2000-8079) and give the reasons for each comment. You may submit your comments and material by mail, hand delivery, fax, or electronic means to the Docket Management Facility at the address under ADDRESSES; but please submit your comments and material by only one means. If you submit them by mail or hand delivery, submit them in an unbound format, no larger than 8½ by 11 inches, suitable for copying and electronic filing. If you submit them by mail and would like to know they reached the Facility, please enclose a stamped, self-addressed postcard or envelope. We will consider all comments and material received during the comment period.

Proposed Action

The Coast Guard has completed the first phase of the risk assessment it initiated during the fall of 2000 to help set its environmental agenda for oil pollution prevention, preparedness and response in the 21st century. One element of this study was the results of the Public Meeting held at Coast Guard Headquarters on December 12, 2000. We published a notice of this meeting and request for comments in the Federal Register on October 18, 2000 (65 FR 62408).

This project contains several elements addressing concept development, risk characterization and issue identification. The first portion identifies the nature and frequency of spills from key sources and determines how the sources and causes may vary in the next decade. The second portion analyzes the impacts associated with each source category. Together these two portions produce a risk characterization by source category. The last section provides an assessment of the overall effectiveness of various prevention, preparedness and response measures in mitigating the threat posed by the various source categories.

The Coast Guard is seeking public comment on the results of this study to help guide its planning for follow-on management analysis.

The assessment is located online at http://www.uscg.mil/hq/g-m/mor/morgmor1new.htm.

Dated: September 12, 2002.
Jeffrey P. High,
Acting Assistant Commandant for Marine Safety, Security, and Environmental Protection.

[FR Doc. 02-27489 Filed 11-1-02; 8:45 am]

BILLING CODE 4910-15-M